DEPARTMENT OF LABOR

Employment and Training Administration

[TA-W-41,613]

Nordic Gear, Inc. Millersburg, PA; Notice of Termination of Investigation

Pursuant to Section 221 of the Trade Act of 1974, an investigation was initiated on June 3, 2002 in response to a worker petition, which was filed on behalf of workers at Nordic Gear, Inc., Millersburg, Pennsylvania.

The petitioners have requested that the petition be withdrawn. Consequently, further investigation in this case would serve no purpose, and the investigation has been terminated.

Signed in Washington, DC this 21st day of August, 2002.
Elliott S. Kushner,
Certifying Officer, Division of Trade Adjustment Assistance.

[FR Doc. 02-22958 Filed 9-9-02; 8:45 am]

BILLING CODE 4510-30-P